DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of August 5, 2013, which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community Map Repository Address
Chatham County, Georgia, and Incorporated Areas
Docket No.: FEMA-B-1254
City of Bloomingdale | 8 West U.S. Route 80, Bloomingdale, GA 31302.
City of Garden City | City Hall, 100 Central Avenue, Garden City, GA 31405.
City of Pooler | City Hall, 100 Southwest U.S. Route 80, Pooler, GA 31322.
City of Savannah | City Hall, 2 East Bay Street, Savannah, GA 31401.
Unincorporated Areas of Chatham County | 124 Bull Street, Suite 430, Savannah, GA 31401.
Boyd County, Kentucky, and Incorporated Areas
Docket No.: FEMA-B-1259
City of Ashland | Department of Planning and Community Development, 1700 Greenup Avenue, Room 208, Ashland, KY 41101.
City of Catlettsburg | City Hall, 216 26th Street, Catlettsburg, KY 41129.
Unincorporated Areas of Boyd County | Boyd County Courthouse, 2800 Louisa Street, Catlettsburg, KY 41129.
Talbot County, Maryland, and Incorporated Areas
Docket No.: FEMA-B-1254
Town of Easton | Planning Office, 14 South Harrison Street, Easton, MD 21601.
Town of Oxford | Town Hall, 101 Market Street, Oxford, MD 21654.
Town of St. Michaels | Edgar M. Bosely, Jr., Municipal Building, 300 Mill Street, St. Michaels, MD 21663.
Town of Trappe | Town Office, 4011 Powell Avenue, Trappe, MD 21673.
Unincorporated Areas of Talbot County | Talbot County Courthouse, 11 North Washington Street, Easton, MD 21601.
Knox County, Tennessee, and Incorporated Areas
Docket No.: FEMA-B-1255
City of Knoxville | City of Knoxville Engineering Division, City County Building, 400 Main Street, Room 480, Knoxville, TN 37902.
Town of Farragut | Town Hall, Engineering Department, 11408 Municipal Center Drive, Farragut, TN 37934.
Unincorporated Areas of Knox County | Knox County Engineering and Public Works Department, 205 West Baxter Avenue, Knoxville, TN 37917.

(Catalog of Federal Domestic Assistance No. 97.022, “Flood Insurance.”)

Roy E. Wright,
Deputy Associate Administrator for Mitigation, Department of Homeland Security, Federal Emergency Management Agency.

[FR Doc. 2013-07818 Filed 4-3-13; 8:45 am]

BILLING CODE 9110-12-P